DEPARTMENT OF AGRICULTURE

Forest Service

Reissuance of 10-Year Term Grazing Permits and Authorization To Graze Cattle in the Tushar Mountain Range, Beaver Ranger District, Fishlake National Forest in Iron and Piute Counties, UT

AGENCY: Forest Service, USDA.

ACTION: Notice of intent to prepare an Environmental Impact Statement.

SUMMARY: The USDA Forest Service will prepare an environmental impact statement (EIS) to disclose the environmental effects of reissuing 10-year term grazing permits to continue authorizing cattle grazing on eight grazing allotments (North-Indian Creek, Circleville, South Beaver, Marysvale, Pine Creek/Sulphurdale, Cottonwood, Ten Mile, Junction) within the Beaver Ranger District and located on the Tushar Mountain Range near the city of Beaver in Beaver and Piute Counties, Utah. The permit reissuance would authorize the continued use of current grazing systems with presently permitted cattle numbers and seasons of use.

DATES: Comments in response to this Notice of Intent concerning the scope of the analysis should be received in writing on or before April 5, 2004.

ADDRESSES: Send written comments to: Tushar Mountain Range EIS, Attn: Dave Grider, Dixie National Forest, 1785 North Wedgewood Lane, Cedar City, UT 84720. Additional information can be obtained from Dave Grider, Interdisciplinary Team Leader, by phone: 435-865-3731 or by e-mail: dgrider@fs.fed.us.

RESPONSIBLE OFFICIAL: Dayle Flanigan, District Ranger, is the responsible official for this environmental impact statement. His address is: U.S. Forest Service, Beaver Ranger District, 575 South Main, P.O. Box E, Beaver, UT, 84713.

FOR FURTHER INFORMATION CONTACT: Dave Grider, Interdisciplinary Team Leader, Dixie National Forest, 1789 N. Wedgewood Lane, Cedar City, UT 84720, (435) 865-3731. A Scoping Document has been prepared to provide project information and request public review and comment. This Scoping Document can be accessed electronically at http://www.fs.fed.us/r4/fishlake/projects/index.shtml.

SUPPLEMENTARY INFORMATION: These eight allotments comprise 173,000 acres (two-thirds) of the 260,000-acre District on the eastern edge of the Basin and Range province. Elevations range from 5,200′ in Sevier Valley to over 12,000′ on Mount Belknap in the Tushar Range. Vegetation types range from sagebrush-grass and pinion-juniper in the valley floors to mountain brush, aspen, mixed conifer, and alpine-forb communities. Riparian ecosystems occur within many of these communities. Alpine riparian areas occur on Lake Peak and in the heads of North Creek. The major river drainage is Beaver River, which flows into the closed Great Basin. The South Beaver and North-Indian Creek Allotments include water bodies that are impaired or are tributary to streams that are impaired, but they do not exceed the State standard for total maximum daily load (TMDL) of pollutants, so the streams and lakes on these allotments are not included on the State's 303(d) list of waters not meeting water quality standards. The Circleville Allotment includes streams that flow to a segment of the Sevier River that is water quality limited, but no 303(d) streams are located in the Circleville Allotment.

Proposed Action: Reissuing 10-year term grazing permits to continue authorizing cattle grazing, on eight allotments on the Tushar Mountain Range within the Beaver Ranger District, is proposed. Implementation of existing Allotment Management Plans (AMPs) would prescribe the manner and extent to which livestock operations would be conducted and would: (1) Develop allotment specific objectives which would direct livestock management to either maintain desired conditions or improve rangelands to desired conditions, (2) authorize management of livestock and construction or maintenance of improvements which would result in meeting objectives, (3) develop action plans to meet resource goals, objectives, and management requirements for a wide array of rangeland resources and uses concurrent with livestock grazing, (4) incorporate Land and Resource Management Plan (Forest Plan) standards and guidelines (as amended) for forage utilization and riparian area management, and (5) develop a monitoring plan that describes a measurable means of determining whether goals and objectives are being met. This proposed action does not intend to address livestock capacity and stocking rates. The number and class of livestock, season of use, and grazing system required to meet desired conditions is a permit administration decision, not a NEPA decision. Changes in numbers and seasons would not be adressed by the proposed action or alternative(s). The proposal does not intend to change the grazing systems currently in use. None of the project allotments require new structural range improvements (fences or water developments) for cattle management. The proposed action does include provision for maintenance of existing structural and non-structural range improvements. Vegetation type-conversions (sagebrush and pinion-juniper to grass/forb types) would be subject to periodic maintenance on the North-Indian Creek, Marysvale, Circleville, Ten Mile, Cottonwood, South Beaver, and Pine Creek/Sulphurdale Allotments. Maintenance of existing structural range improvements would include 113 miles of fences, 27 cattle guards, 48 developed springs, 48 stock ponds, 29 miles of pipeline, and 60 watering troughs. Noxious weed infestations would require treatment on all of the allotments except Ten Mile, Junction, and Cottonwood.

Purpose and Need for Action: The purpose of the proposed action is to authorize and conduct cattle grazing, on allotments included in this analysis, according to direction and objectives of the Forest Plan and in compliance with applicable laws, regulations, and policies. Term grazing permits and associated AMPs currently authorize cattle grazing on the Beaver Ranger District. The proposed action is needed to address significant grazing issues, relate existing conditions to desired conditions, and to conduct analysis in accordance with Section 504 of Pub. L. 104-19 (Rescission Bill, Signed 7/27/95) which directed the Forest Service to complete NEPA analysis on all grazing allotments. The Forest Plan provides the overall guidance for management activities in the potentially affected area through its goals, objectives, standards and guidelines, and management area direction.

Nature of Decision To Be Made: The decision to be made is “should 10-year term grazing permits be reissued to authorize continued cattle grazing on the eight allotments within the Tushar Mountain Range on the Beaver Ranger District.” If the decision is to reissue term grazing permits to continue cattle grazing, then management prescriptions, detailed in AMPs, will be implemented to outline how livestock will be grazed and to ensure compliance with Forest Plan direction.

Possible Alternatives: The Forest Service will consider a range of alternatives. One of these will be the “no grazing” alternative, in which no grazing by domestic livestock would be allowed and all structural range improvements currently in place for control or management of livestock would be removed. New term grazing permits would not be issued as current permits expire. In ten years, this area would not provide any grazing for domestic livestock. Additional grazing alternatives will be considered in response to issues and other resource values. The EIS will analyze the direct, indirect, and cumulative environmental effects of the alternatives. Past, present, and projected activities on both private and National Forest lands will be considered. The EIS will disclose the analysis of site-specific mitigation measures and their effectiveness.

Scoping Process: Public participation is an important part of the analysis, commencing with the initial scoping process (40 CFR 1501.7), which began in February 1998. At that time, an Interdisciplinary Team of Forest Service resource specialists conducted an in-depth analysis of 36 cattle allotments (including the 8 allotments in this proposed action) and 6 sheep allotments in a Forest-wide multi-allotment level environmental assessment. A final decision was made, which was subsequently appealed, pursuant to 36 CFR 215.17, and Fishlake National Forest Supervisor Rob Mwroka withdrew the decision in June 2000. Based on the complexities of the original EA, the Forest Supervisor decided to complete an environmental analysis that only addressed forage utilization criteria, and to incorporate new use criteria through an amendment to the Forest Plan. This EA was completed during 2001 and the Decision Notice was signed in February 2002 directing incorporation of the revised criteria into Part 3 of the Term Grazing Permits. Concurrently, and upon review of the environmental analysis process and varying public interests, the Forest Supervisor decided that separate Environmental Impact Statements (EISs), for each group of allotments on each of the Forest's four mountain ranges and respective ranger districts, would be prepared to assess the effects of authorizing and permitting livestock grazing. Public comments received during the completion of the original multi-allotment Forest-wide EA referenced above will be incorporated into this EIS analysis process. A disclosure of the effects of livestock grazing on the following resources and activities will be provided: riparian areas, endangered and sensitive plant and wildlife species habitats, soil and water quality within the allotments, forage competition between elk and livestock, conflicts with recreational activities, potential spread of noxious weeds, effect of livestock and their management on cultural resources, and economic stability of the local and regional agricultural communities. This list will be verified, expanded, refined, or modified based on public scoping for this proposal.

Comments Requested: In addition to this scoping, the public may visit Forest Service officials at any time during the analysis and prior to the decision. The Forest Service is seeking information, comments, and assistance from Federal, State, and local agencies and other individuals or organizations that may be interested in or affected by the proposed action. No public meetings are scheduled at this time. Comments will be used to identify any additional issues that should be addressed in the environmental impact statement. The analysis is being conducted in compliance with the National Environmental Policy Act (NEPA) and is designed to inform the Responsible Official of the potential environmental consequences of continued livestock grazing on these eight allotments and to identify any changes in grazing practices that should be considered. The Draft EIS is expected to be filed with the Environmental Protection Agency (EPA) and available for public review by or prior to June of 2004. At that time, the EPA will publish a Notice of Availability of the Draft EIS in the Federal Register. The comment period on the Draft EIS will be 45 days from the date the EPA's notice of availability appears in the Federal Register. It is very important that those interested in management of the eight project allotments on the Beaver Ranger District participate at that time. To be most helpful, comments on the Draft EIS should be as site-specific as possible. The Final EIS is scheduled to be completed by September 2004.

Early Notice of Importance of Public Participation in Subsequent Environmental Review: A draft environmental impact statement (DEIS) will be prepared for comment. The comment period on the DEIS will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30-day scoping comment period (April 1, 2004) so that substantive comments and objections are made available to the Forest Service at a time when it can meaningfully consider them and respond to them in the Final Environmental Impact Statement. To assist the Forest Service in identifying and considering issues on the proposed action, comments should be as specific as possible. It is also helpful if comments refer to specific pages or chapters of the draft statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points.

Dated: March 1, 2004.
Mary Erickson,
Forest Supervisor, Fishlake National Forest.

[FR Doc. 04-5463 Filed 3-10-04; 8:45 am]

BILLING CODE 3410-11-P